DEPARTMENT OF AGRICULTURE

Food Safety Inspection Service

[Docket No. FSIS-2012-0010]

Nominations for Membership on the National Advisory Committee on Microbiological Criteria for Foods

AGENCY: Food Safety and Inspection Service, USDA.

ACTION: Notice.

SUMMARY: This notice is announcing that the U.S. Department of Agriculture (USDA) is soliciting nominations for membership to fill 16 vacancies on the National Advisory Committee on Microbiological Criteria for Foods (NACMCF).

NACMCF is seeking members with scientific expertise in the fields of epidemiology, food technology, microbiology (food, clinical, and predictive), toxicology, risk assessment, infectious disease, biostatistics, and other related sciences. NACMCF is seeking applications from persons from academia, industry, consumer groups, State governments, and the Federal Government, as well as all other interested persons with such expertise.

Please note that federally registered lobbyists cannot be considered for USDA advisory committee membership. Members can only serve on one USDA advisory committee at a time. All nominees will undergo a USDA background check.

Members who are not Federal government employees will be appointed to serve as non-compensated special government employees (SGEs). SGEs will be subject to appropriate conflict of interest statutes and standards of ethical conduct.

To receive consideration for serving on the NACMCF, a nominee must submit a resume and USDA Advisory Committee Membership Background Information form AD-755. The resume or curriculum vitae must be limited to five one-sided pages and should include educational background, expertise, and a list of select publications. For submissions received that are more than five one-sided pages in length, only the first five pages will be reviewed. USDA Advisory Committee Membership Background Information form AD-755 is available online at: http://www.ocio.usda.gov/forms/doc/AD-755.pdf.

DATES: Nominations including a cover letter to the Secretary, and the nominee's typed resume or curriculum vitae and a completed USDA Advisory Committee Membership Background Information form AD-755 must be received by April 23, 2012. Self nominations are welcome.

ADDRESSES: Nomination packages including a cover letter to the Secretary accompanied by a resume and AD-755 form can be sent by mail to: Tom Vilsack, Secretary, U.S. Department of Agriculture, 1400 Independence Avenue SW., Washington, DC 20250, Attn: National Advisory Committee on Microbiological Criteria for Foods.

FOR FURTHER INFORMATION CONTACT: Ms. Karen Thomas-Sharp, Advisory Committee Specialist, by telephone at 202-690-6620 or by email karen.thomas-sharp@fsis.usda.gov.

The Food Safety and Inspection Service (FSIS) invites interested persons to submit comments on this notice. Comments may be submitted by either of the following methods:

Federal eRulemaking Portal: This Web site (http://www.regulations.gov) provides the ability to type short comments directly into the comment field on this Web page or attach a file for lengthier comments. Follow the online instructions at that site for submitting comments.

Mail, including CD-ROMS: Send to Docket Clerk, USDA, FSIS Docket Room, Patriots Plaza 3, 1400 Independence Avenue SW., Mailstop 3782, Room 8-163A, Washington, DC 20250-3700.

Hand- or courier-delivered items: Deliver to the Docket Clerk, USDA, FSIS Docket Room at Patriots Plaza 3, 355 E. Street SW., Room 8-163A, Washington, DC 20250-3700 between 8:30 a.m. and 4:30 p.m., Monday through Friday.

Instructions: All items submitted by mail or electronic mail must include the Agency name and docket number FSIS-2012-0010. Comments received in response to this docket will be made available for public inspection and posted without change, including any personal information, to http://www.regulations.gov.

Docket: For access to background documents or comments received, go to the FSIS Docket Room at Patriots Plaza 3, 355 E. Street SW., Room 8-164, Washington, DC 20250-3700 between 8:30 a.m. and 4:30 p.m., Monday through Friday.

SUPPLEMENTARY INFORMATION:

Background

The NACMCF was established in March 1988, in response to a recommendation in a 1985 report of the National Academy of Sciences Committee on Food Protection, Subcommittee on Microbiological Criteria, “An Evaluation of the Role of Microbiological Criteria for Foods.” The current charter for the NACMCF and other information about the Committee are available for viewing to the public on the FSIS Web site at: http://www.fsis.usda.gov/About_FSIS/NACMCF/index.asp.

The Committee provides scientific advice and recommendations to the Secretary of Agriculture and the Secretary of Health and Human Services concerning the development of microbiological criteria by which the safety and wholesomeness of food can be assessed. For example, the Committee assists in the development of criteria for microorganisms that indicate whether food has been processed using good manufacturing practices.

Appointments to the Committee will be made by the Secretary of Agriculture after consultation with the Secretary of Health and Human Services to ensure that recommendations made by the Committee take into account the needs of the diverse groups served by the Department.

Given the complexity of issues, the full Committee expects to meet at least once a year by teleconference or in-person, and the meetings will be announced in the Federal Register. The subcommittees will meet as deemed necessary by the chairperson and will be held as working group meetings in an open public forum. Subcommittees also may meet through teleconference or by computer-based conferencing (Webinars). Subcommittees may invite technical experts to present information for consideration by the subcommittee. The subcommittee meetings will not be announced in the Federal Register. FSIS will announce the agenda and subcommittee working group meetings through the Constituent Update, available online at http://www.fsis.usda.gov/news_&_events/Constituent_Update/index.asp.

NACMCF holds subcommittee meetings in order to accomplish the work of NACMCF; all subcommittee work is reviewed and approved during a public meeting of the full Committee, as announced in the Federal Register. All data and records available to the full Committee are expected to be available to the public when the full Committee reviews and approves the work of the subcommittee.

Advisory Committee members have a two-year term, renewable for two consecutive terms. Members are expected to attend all in-person meetings for the smooth functioning of this advisory committee. However, the Advisory Committee realizes that unexpected events or extenuating circumstances (e.g., a personal or family emergency) may result in a member's inability to attend an in-person meeting and that attendance through teleconferencing may be necessary. Some meetings may be held through teleconferencing and or Webinars exclusively.

Members must be prepared to work outside of scheduled Committee and subcommittee meetings and may be required to assist in document preparation. Committee members serve on a voluntary basis; however, travel expenses and per diem reimbursement are available.

Regarding Nominees Who Are Selected

All SGE and Federal government employee nominees who are selected must complete the Office of Government Ethics (OGE) 450 Confidential Financial Disclosure Report before rendering any advice or prior to their first meeting. All members will be reviewed for conflict of interest pursuant to 18 U.S.C. 208 in relation to specific NACMCF work charges. Financial disclosure updates will be required annually. Members must report any changes in financial holdings requiring additional disclosure. OGE 450 forms are available on-line at: http://www.oge.gov/Financial-Disclosure/Confidential-Financial-Disclosure-450/OGE-Form-450/.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC, on March 19, 2012.
Alfred V. Almanza,
Administrator.

[FR Doc. 2012-6895 Filed 3-21-12; 8:45 am]

BILLING CODE 3410-DM-P